DEPARTMENT OF ENERGY

Federal Energy Regulatory Commission

Notice of Non-Project Use of Project Lands and Soliciting Comments, Motions To Intervene, and Protests

August 24, 2004.

Take notice that the following application has been filed with the Commission and is available for public inspection:

a. Application Type: Non-Project Use of Project Lands.

b. Project No: 2454-059.

c. Date Filed: June 29, 2004.

d. Applicant: Minnesota Power (MP).

e. Name of Project: Sylvan Hydroelectric Project.

f. Location: The project is located on the Crow Wing River, in Cass, Crow Wing, and Morrison Counties, Minnesota.

g. Filed Pursuant to: Federal Power Act, 16 U.S.C. § 791(a)-825(r).

h. Applicant Contact: Thomas Houghtaling, Minnesota Power, 30 West Superior Street, Duluth, MN 55802, (218) 722-5642, ext. 3583.

i. FERC Contact: Any questions on this notice should be addressed to Shana High at (202) 502-8674.

j. Deadline for filing comments and /or motions: September 27, 2004.

All documents (original and eight copies) should be filed with: Ms. Magalie R. Salas, Secretary, Federal Energy Regulatory Commission, 888 First Street, NE., Washington, DC 20426. Please include the project number (2454-059) on any comments or motions filed. Comments, protests and interventions may be filed electronically via the Internet in lieu of paper. See, 18 CFR 385.2001(a)(1)(iii) and the instructions on the Commission's Web site under the “e-Filing” link. The Commission strongly encourages electronic filings.

k. Description of Proposal: MP proposes to convey approximately 151.8 acres of land within the project boundary to The Nature Conservancy (TNC). TNC would then convey the land to the Minnesota Department of Military Affairs (MDMA) for an addition to Camp Ripley, a military base operated by MDMA. The 151.8 acres within Camp Ripley would remain within the project boundary as a site where recreational activities occur. TNC would receive land of equal value from MDMA to expand its Lake Alexander Nature Preserve.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title COMMENTS, RECOMMENDATIONS FOR TERMS AND CONDITIONS, PROTEST, or MOTION TO INTERVENE, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-2024 Filed 9-1-04; 8:45 am]

BILLING CODE 6717-01-P